DEPARTMENT OF STATE

[Public Notice: 12720]

Plenary Meeting of the Binational Bridges and Border Crossings Group in Mexico City

SUMMARY: Delegates from the U.S. and Mexican governments, the states of California, Arizona, New Mexico, and Texas, and the Mexican states of Baja California, Sonora, Chihuahua, Coahuila, Nuevo Laredo, and Tamaulipas will participate in an in-person plenary meeting of the U.S.-Mexico Binational Bridges and Border Crossings Group.

DATES: Tuesday, June 10, 2025, and Wednesday, June 11, 2025, in Mexico City.

FOR FURTHER INFORMATION CONTACT: For further information on the meeting and/or to attend the public session, please contact Beney Lee, Border Affairs Officer, via email at WHA-BorderAffairs@state.gov, by phone at 771-204-0192, or by mail at the Office of Mexican Affairs, Room 3924, Department of State, 2201 C Street NW, Washington, DC 20520.

SUPPLEMENTARY INFORMATION: The purpose of this meeting is to discuss operational matters involving existing and proposed international bridges and border crossings and their related infrastructure and to exchange technical information as well as views on policy. This meeting will include a public session on Tuesday, June 10, 2025, from 9 a.m. until 12 p.m. This session will allow interested parties with views on proposed bridges and border crossings and related projects to make presentations to the delegations and members of the public.

Beney J. Lee,
Border Affairs Officer, Office of Mexican Affairs, Department of State.

[FR Doc. 2025-07758 Filed 5-2-25; 8:45 am]

BILLING CODE 4710-29-P